DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of four individuals and eight entities whose property and interests in property have been unblocked pursuant to the Foreign Narcotics Kingpin Designation Act (Kingpin Act) (21 U.S.C. Sections 1901-1908, 8 U.S.C. Section 1182).

DATES: The unblocking and removal from the list of Specially Designated Nationals and Blocked Persons (SDN List) of the individuals and entities identified in this notice whose property and interests in property were blocked pursuant to the Kingpin Act, is effective on June 24, 2015.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On June 24, 2015, the Associate Director of the Office of Global Targeting removed from the SDN List the individuals and entities listed below, whose property and interests in property were blocked pursuant to the Kingpin Act:

Individuals

1. ECHEVERRY CADAVID, Nebio De Jesus (a.k.a. ECHEVERRI, Nevio; a.k.a. ECHEVERRY, Nevio), Carrera 10 No. 46-43, Pereira, Colombia; Carrera 38 No. 26B-11, Villavicencio, Colombia; La Pastora, Vereda La Union, Dosquebradas, Risaralda, Colombia; DOB 28 Nov 1944; Cedula No. 10056431 (Colombia) (individual) [SDNTK] (Linked To: PROVEEDORES Y DISTRIBUIDORES NACIONALES S.A.; Linked To: COMERCIALIZADORA AUTOMOTORA MATECANA LTDA.; Linked To: LADRILLERA EL PORVENIR LTDA.).

2. LOPEZ CADAVID, Oscar De Jesus, Hacienda San Lorenzo, Paratebueno, Cundinamarca, Colombia; DOB 21 Jun 1956; Cedula No. 15502188 (Colombia) (individual) [SDNTK] (Linked To: PROVEEDORES Y DISTRIBUIDORES NACIONALES S.A.; Linked To: COLOMBIAN GREEN STONE CORPORATION LTDA.; Linked To: LADRILLERA EL PORVENIR LTDA.).

3. PENA TORRES, Miguel de los Santos, c/o COMERCIALIZADORA EL PROVEEDOR LTDA., Villavicencio, Colombia; c/o HACIENDA VENDAVAL, Paratebueno, Cundinamarca, Colombia; c/o INVERSIONES Y DISTRIBUCIONES COLOMBIANAS EL OASIS LTDA., Villavicencio, Colombia; c/o PROVEEDORES Y DISTRIBUIDORES NACIONALES S.A., Bogota, Colombia; Carrera 47A No. 22-40 Apto. 504, Bogota, Colombia; DOB 07 Jul 1941; POB Santa Rosa de Viterbo, Boyaca, Colombia; Cedula No. 5549825 (Colombia) (individual) [SDNTK].

4. VARGAS SOLER, Sandra Milena, c/o COMERCIALIZADORA COLOMBIAN MONEY EXCHANGE LTDA., Bogota, Colombia; DOB 05 Jan 1980; POB Colombia; nationality Colombia; citizen Colombia; Cedula No. 40047576 (Colombia) (individual) [SDNTK].

Entities

1. COMERCIALIZADORA AUTOMOTORA MATECANA LTDA., Carrera 13 No. 69-00 Avenida 30 de Agosto, Pereira, Colombia; NIT # 816002220-3 (Colombia) [SDNTK].

2. COMERCIALIZADORA EL PROVEEDOR LTDA., Carrera 38 No. 26B-11 Of. 201, Villavicencio, Colombia; NIT # 860524177-4 (Colombia) [SDNTK].

3. HACIENDA VENDAVAL, Vereda Paloma Km. 2, Paratebueno, Cundinamarca, Colombia; Matricula Mercantil No 1473503 (Colombia) [SDNTK].

4. INVERSIONES BUENOS AIRES LTDA. (a.k.a. HOTEL CABANAS EL OTUN), Avenida 30 de Agosto No. 87-580, Pereira, Colombia; NIT # 800002386-9 (Colombia) [SDNTK].

5. INVERSIONES Y DISTRIBUCIONES COLOMBIANAS EL OASIS LTDA. (a.k.a. ALMACEN EL OASIS; a.k.a. INDISCOL LTDA.), Calle 18 No. 13-85, Granada, Meta, Colombia; Carrera 43 No. 18-50 Casa E-8, Villavicencio, Colombia; NIT # 800040864-1 (Colombia) [SDNTK].

6. COLOMBIAN GREEN STONE CORPORATION LTDA., Calle 136 No. 30-49, Bogota, Colombia; NIT # 830112015-2 (Colombia) [SDNTK].

7. LADRILLERA EL PORVENIR LTDA., Km. 5 Via al Retorno, San Jose del Guaviare, Colombia; NIT # 900054472-1 (Colombia) [SDNTK].

8. PROVEEDORES Y DISTRIBUIDORES NACIONALES S.A. (a.k.a. NACIONAL DISTRIBUCIONES; a.k.a. PRODISNAL S.A.; a.k.a. PROVEEDOR HOGAR; a.k.a. SUPERMERCADOS EL PROVEEDOR), Calle 15 No. 18-50, Yopal, Casanare, Colombia; Calle del Comercio, Puerto Inirida, Guainia, Colombia; Carrera 5 No. 16-45, Puerto Inirida, Guainia, Colombia; Carrera 14 No. 29-97, Granada, Meta, Colombia; Carrera 22 No. 6-21, San Jose del Guaviare, Guaviare, Colombia; Carrera 22 No. 7-55, San Jose del Guaviare, Guaviare, Colombia; Carrera 29 No. 20-38, Yopal, Casanare, Colombia; Carrera 38 No. 26C-95, Villavicencio, Colombia; Corabastos Bod. 3 Loc. 12, Bogota, Colombia; NIT # 830511666-9 (Colombia) [SDNTK].

Dated: June 24, 2015.
Gregory T. Gatjanis,
Associate Director, Office of Global Targeting, Office of Foreign Assets Control.

[FR Doc. 2015-16332 Filed 7-1-15; 8:45 am]

BILLING CODE 4810-AL-P